ENVIRONMENTAL PROTECTION AGENCY

40 CFR Part 52

[EPA-R04-OAR-2019-0305; FRL-10005-29-Region 4]

Air Plan Approval; Tennessee; Chattanooga Miscellaneous Revisions

AGENCY: Environmental Protection Agency (EPA).

ACTION: Proposed rule.

SUMMARY: The Environmental Protection Agency (EPA) is proposing to approve a revision to the Chattanooga portion of the Tennessee State Implementation Plan (SIP) submitted by the State of Tennessee through the Tennessee Department of Environment and Conservation (TDEC) on behalf of the Chattanooga/Hamilton County Air Pollution Control Bureau (Bureau) on September 12, 2018. The SIP submittal removes and replaces the Chattanooga City Code, Air Pollution Control Ordinances pertaining to the Chattanooga-Hamilton County Air Pollution Control Board (Board), powers and duties of the Board, penalties, enforcement and permit fees. The SIP revision that EPA is proposing to approve is consistent with the requirements of the Clean Air Act (CAA or Act).

DATES: Comments must be received on or before March 2, 2020.

ADDRESSES: Submit your comments, identified by Docket ID No. EPA-R04-OAR-2019-0305 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit www2.epa.gov/dockets/commenting-epa-dockets.

FOR FURTHER INFORMATION CONTACT: Sean Lakeman, Air Regulatory Management Section, Air Planning and Implementation Branch, Air and Radiation Division, U.S. Environmental Protection Agency, Region 4, 61 Forsyth Street SW, Atlanta, Georgia 30303-8960. The telephone number is (404) 562-9043. Mr. Lakeman can also be reached via electronic mail at lakeman.sean@epa.gov.

SUPPLEMENTARY INFORMATION:

I. Background

Through a letter dated September 12, 2018, TDEC submitted a SIP revision on behalf of the Bureau requesting removal and replacement of certain air quality rules in the Chattanooga portion of the Tennessee SIP.1 2 This rulemaking proposes to approve the Chattanooga City Code Part II, Chapter 4, Section 4-4, “Penalties for violation of chapter, permit or order,” ³ Section 4-6, “Air pollution control board; bureau of air pollution control; persons required to comply with chapter,” ⁴ Section 4-7, “Powers and duties of the board; delegation,” ⁵ Paragraphs 4-8(a)(14), 4-8(c)(12), 4-8(d)(4) and 4-8(d)(6) in Section 4-8, “Installation permit and certificate of operation,” ⁶ Paragraph 4-10(a), “Records,” ⁷ and Section 4-17, “Enforcement of chapter; procedure for adjudicatory hearings for violations” into the Chattanooga portion of the Tennessee SIP.8 9 Tennessee's September 12, 2018, SIP revision can be found in the docket for this rulemaking at www.regulations.gov and is further summarized in this notice.¹⁰

¹ The Bureau is comprised of Hamilton County and the municipalities of Chattanooga, Collegedale, East Ridge, Lakesite, Lookout Mountain, Red Bank, Ridgeside, Signal Mountain, Soddy Daisy, and Walden. The Bureau recommends regulatory revisions, which are subsequently adopted by the eleven jurisdictions. The Bureau then implements and enforces the regulations, as necessary, in each jurisdiction. Because the air pollution control regulations/ordinances adopted by the jurisdictions within the Bureau are substantively identical (except as noted later in this notice), EPA refers solely to Chattanooga and the Chattanooga rules throughout the notice as representative of the other ten jurisdictions for brevity and simplicity. See footnotes 3 through 8, later in this notice.

² EPA received the SIP revision on September 18, 2018.

³ In this proposed action, EPA is also proposing to approve similar changes in the following sections of the Air Pollution Control Regulations/Ordinances for the remaining jurisdictions within the Bureau, which were locally effective as of the relevant dates below: Hamilton County—Section 4 (9/6/17); City of Collegedale—Section 14-304 (10/16/17); City of East Ridge—Section 8-4 (10/26/17); City of Lakesite—Section 14-4 (11/2/17); Town of Lookout Mountain—Section 4 (11/14/17); City of Red Bank—Section 20-4 (11/21/17); City of Ridgeside—Section 4 (1/16/18); City of Signal Mountain—Section 4 (10/20/17); City of Soddy-Daisy—Section 8-4 (10/5/17); and Town of Walden—Section 4 (10/16/17). The only substantive difference between the various jurisdictions' regulations is that Chattanooga Ordinance Part II, Chapter 4, Section 4-4 contains an additional sentence regarding fines and fees, which is discussed later in this notice.

⁴ In this proposed action, EPA is also proposing to approve substantively similar changes in the following sections of the Air Pollution Control Regulations/Ordinances for the remaining jurisdictions within the Bureau, which were locally effective as of the relevant dates below: Hamilton County—Section 6 (9/6/17); City of Collegedale—Section 14-306 (10/16/17); City of East Ridge—Section 8-6 (10/26/17); City of Lakesite—Section 14-6 (11/2/17); Town of Lookout Mountain—Section 6 (11/14/17); City of Red Bank—Section 20-6 (11/21/17); City of Ridgeside—Section 6 (1/16/18); City of Signal Mountain—Section 6 (10/20/17); City of Soddy-Daisy—Section 8-6 (10/5/17); and Town of Walden—Section 6 (10/16/17).

⁵ In this proposed action, EPA is also proposing to approve substantively similar changes in the following sections of the Air Pollution Control Regulations/Ordinances for the remaining jurisdictions within the Bureau, which were locally effective as of the relevant dates below: Hamilton County—Section 7 (9/6/17); City of Collegedale—Section 14-307 (10/16/17); City of East Ridge—Section 8-7 (10/26/17); City of Lakesite—Section 14-7 (11/2/17); Town of Lookout Mountain—Section 7 (11/14/17); City of Red Bank—Section 20-7 (11/21/17); City of Ridgeside—Section 7 (1/16/18); City of Signal Mountain—Section 7 (10/20/17); City of Soddy-Daisy—Section 8-7 (10/5/17); and Town of Walden—Section 7 (10/16/17).

⁶ In this proposed action, EPA is also proposing to approve substantively similar changes in the following sections of the Air Pollution Control Regulations/Ordinances for the remaining jurisdictions within the Bureau, which were locally effective as of the relevant dates below: Hamilton County—Section 8 (9/6/17); City of Collegedale—Section 14-308 (10/16/17); City of East Ridge—Section 8-8 (10/26/17); City of Lakesite—Section 14-8 (11/2/17); Town of Lookout Mountain—Section 8 (11/14/17); City of Red Bank—Section 20-8 (11/21/17); City of Ridgeside—Section 8 (1/16/18); City of Signal Mountain—Section 8 (10/20/17); City of Soddy-Daisy—Section 8-8 (10/5/17); and Town of Walden—Section 8 (10/16/17).

⁷ In this proposed action, EPA is also proposing to approve substantively similar changes in the following sections of the Air Pollution Control Regulations/Ordinances for the remaining jurisdictions within the Bureau, which were locally effective as of the relevant dates below: Hamilton County—Section 10 (9/6/17); City of Collegedale—Section 14-310 (10/16/17); City of East Ridge—Section 8-10 (10/26/17); City of Lakesite—Section 14-10 (11/2/17); Town of Lookout Mountain—Section 10 (11/14/17); City of Red Bank—Section 20-10 (11/21/17); City of Ridgeside—Section 10 (1/16/18); City of Signal Mountain—Section 10 (10/20/17); City of Soddy-Daisy—Section 8-10 (10/5/17); and Town of Walden—Section 10 (10/16/17).

⁸ In this proposed action, EPA is also proposing to approve similar changes in the following sections of the Air Pollution Control Regulations/Ordinances for the remaining jurisdictions within the Bureau, which were locally effective as of the relevant dates below: Hamilton County—Section 17 (9/6/17); City of Collegedale—Section 14-17 (10/16/17); City of East Ridge—Section 8-17 (10/26/17); City of Lakesite—Section 14-17 (11/2/17); Town of Lookout Mountain—Section 17 (11/14/17); City of Red Bank—Section 20-17 (11/21/17); City of Ridgeside—Section 17 (1/16/18); City of Signal Mountain—Section 17 (10/20/17); City of Soddy-Daisy—Section 8-17 (10/5/17); and Town of Walden—Section 17 (10/16/17). The only substantive difference between the various jurisdictions' regulations is that Chattanooga City Code Part II, Chapter 4, Section 4-17 contains an additional paragraph concerning citation of violators to municipal court, which is discussed below.

⁹ EPA received other revisions to the Chattanooga portion of the Tennessee SIP transmitted with the same September 12, 2018, cover letter. EPA will be considering action for those other SIP revisions in a separate rulemaking.

¹⁰ Tennessee requested that EPA remove and replace rules 4-4, 4-6, 4-7, 4-8(a)(14), 4-8(c)(12), 4-8(d)(4), 4-8(d)(6), 4-10(a), and 4-17 in their entirety and provided a redline/strikeout. The redline/strikeout does not show all the differences between the federally-approved SIP version of rules 4-4, 4-6, 4-7, 4-8(a)(14), 4-8(c)(12), 4-8(d)(4), 4-8(d)(6), 4-10(a), 4-17 and the version locally effective on October 3, 2017. EPA's evaluation is of the removal and replacement of rules 4-4, 4-6, 4-7, 4-8(a)(14), 4-8(c)(12), 4-8(d)(4), 4-8(d)(6), 4-10(a), and 4-17 in their entirety.

II. EPA's Analysis of Tennessee's SIP Revision

EPA evaluated several sections of the Chattanooga city code under the CAA. As discussed later in this notice, the September 12, 2018, SIP submission removes and replaces the Chattanooga city code Part II, Chapter 4, Section 4-4, “Penalties for violation of chapter, permit or order,” Section 4-6, “Air pollution control board; bureau of air pollution control; persons required to comply with chapter,” Section 4-7, “Powers and duties of the board; delegation,” Paragraphs 4-8(a)(14), 4-8(c)(12), 4-8(d)(4) and 4-8(d)(6) in Section 4-8, “Installation permit and certificate of operation,” Paragraph 4-10(a), “Records,” and Section 4-17, “Enforcement of chapter; procedure for adjudicatory hearings for violations” into the Chattanooga portion of the Tennessee SIP. The changes are related to the Board's administrative functions in general and do not impact emissions. As discussed in greater detail later in this notice, the removal and replacement of these rule provisions will not interfere with attainment or maintenance of the NAAQS or any other requirement of the Act.

A. Section 4-4, “Penalties for violation of chapter, permit or order”

Tennessee's September 12, 2018, SIP revision includes a request to remove and replace Section 4-4, “Penalties for violation of chapter, permit or order” of the Chattanooga-Hamilton County portion of the Tennessee SIP. Section 4-4 governs penalties for any person who violates or fails to comply with any provision of Chattanooga City Code Chapter 4, or any order of the Board or of the director; or who makes false material statement, representation, or certification in, or omits material information from, any record, report, plan or other document required either to be filed or submitted or maintained pursuant to the chapter; or who falsifies, tampers with, renders inaccurate, or fails to install any monitoring device or method required to be maintained or followed under the chapter; or fails to pay a fee established under the chapter.¹¹ EPA has reviewed Section 4-4 and preliminarily finds the provision to be consistent with the CAA.

¹¹ As discussed above, the last sentence in Paragraph 4-4(a), regarding a fee of $50 if cited under Chapter 4, is not included in the regulations from the other jurisdictions this action proposes to approve. See note 3. However, as this addition serves to strengthen the SIP and is not required by the CAA, similar language in the other jurisdictions' regulations is not necessary. Accordingly, EPA is proposing to approve all 11 jurisdictions' regulations identified in footnote 3.

The current SIP-approved version of Section 4-4 also governed penalties for any person who violates or fails to comply with any provision of the Chattanooga City Code Chapter 4, or any order of the Board or of the director; or who makes false material statement, representation, or certification in, or omits material information from, any record, report, plan or other document required either to be filed or submitted or maintained pursuant to the chapter; or who falsifies, tampers with, renders inaccurate, or fails to install any monitoring device or method required to be maintained or followed under the chapter; or fails to pay a fee established under the chapter. Chattanooga requested that EPA approve the version of the rule submitted in the September 12, 2018, SIP revision in its entirety to ensure the federally-approved version and the local version are consistent. EPA does not anticipate that removal of the current SIP-approved version of section 4-4 and replacement with the version locally effective on October 3, 2017, will lead to a change in emissions. EPA is therefore proposing to conclude that the removal and replacement will not interfere with the attainment or maintenance of air quality standards.

EPA has reviewed the changes to the SIP and is proposing to approve the version of section 4-4 locally effective on October 3, 2017, into the SIP.

B. Section 4-6, “Air pollution control board; bureau of air pollution control; persons required to comply with chapter”

Tennessee's September 12, 2018, SIP revision includes a request to remove and replace Section 4-6, “Air pollution control board; bureau of air pollution control; persons required to comply with chapter” of the Chattanooga-Hamilton County portion of the Tennessee SIP. Chattanooga Rule 4-6 establishes the Board and governs the constituency of the Board, outlines roles and responsibilities, and explains how vacancies are filled among other general operational procedures and expectations related to the Board. EPA has reviewed Section 4-6 and preliminarily finds the provision to be consistent with the CAA.

The current SIP-approved version of Section 4-6 also established the Board and governed the constituency of the Board, outlines roles and responsibilities, and explains how vacancies are filled among other general operational procedures and expectations related to the Board. Chattanooga requested that EPA approve the version of the rule in the September 12, 2018, SIP revision in its entirety to ensure the federally-approved version and the local version are consistent. EPA does not anticipate that removal of the current SIP-approved version of section 4-6 and replacement with the version locally effective on October 3, 2017, will lead to a change in emissions. EPA is therefore proposing to conclude that the removal and replacement will not interfere with the attainment or maintenance of air quality standards.

EPA has reviewed the changes to the SIP and is proposing to approve the version of section 4-6 locally effective on October 3, 2017, into the SIP.

C. Section 4-7, “Powers and duties of the board; delegation”

Tennessee's September 12, 2018, SIP revision includes a request to remove and replace Section 4-7, “Powers and duties of the board; delegation” of the Chattanooga-Hamilton County portion of the Tennessee SIP. Chattanooga Rule 4-7 governs the powers and duties of the Board, and also provides for delegation of the powers to the Director of the Board (Director), and through him the personnel of the Bureau. EPA has reviewed Section 4-7 and preliminarily finds the provision to be consistent with the CAA.

The current SIP-approved version of Section 4-7 also governed the powers and duties of the Board, and delegation. Chattanooga requested that EPA approve the version of the rule submitted in the September 12, 2018, SIP revision in its entirety to ensure the federally-approved version and the local version are consistent. EPA does not anticipate that removal of the current SIP-approved version of section 4-7 and replacement with the version locally effective on October 3, 2017, will lead to a change in emissions. EPA is therefore proposing to conclude that the removal and replacement will not interfere with the attainment or maintenance of air quality standards.

EPA has reviewed the changes to the SIP and is proposing to approve the version of section 4-7 locally effective on October 3, 2017, into the SIP.

D. Section 4-8, “Installation permit and certificate of operation”

Tennessee's September 12, 2018, SIP revision includes a request to remove and replace Paragraphs 4-8(a)(14), 4-8(c)(12), 4-8(d)(4), and 4-8(d)(6) of the Chattanooga-Hamilton County portion of the Tennessee SIP. These paragraphs address to whom permit fees apply and the permit fee schedules. EPA has reviewed Paragraphs 4-8(a)(14), 4-8(c)(12), 4-8(d)(4), and 4-8(d)(6) and preliminarily finds the provisions to be consistent with the CAA.

EPA does not anticipate that removal of the current SIP-approved version of Paragraphs 4-8(a)(16), 4-8(c)(5), 4-8(d)(5), and 4-8(d)(8) ¹² and replacement with the version locally effective on October 3, 2017, will lead to a change in emissions. EPA is therefore proposing to conclude that the removal and replacement will not interfere with the attainment or maintenance of air quality standards.

¹² There have been intervening numbering changes to the local regulations since section 4-8 was last approved into the Chattanooga-Hamilton County portion of the Tennessee SIP. See 62 FR 7163 (February 18, 1997). Thus, Paragraphs 4-8(a)(14), 4-8(c)(12), 4-8(d)(4), and 4-8(d)(6) locally effective October 3, 2017, will replace the previously approved Paragraphs 4-8(a)(16), 4-8(c)(5), 4-8(d)(5), and 4-8(d)(8), respectively.

E. Paragraph 4-10(a), “Records”

Tennessee's September 12, 2018, SIP revision includes a request to remove and replace Paragraph 4-10(a), “Records” of the Chattanooga-Hamilton County portion of the Tennessee SIP. Chattanooga Rule 4-10(a) addresses records kept by the Bureau. It requires the Bureau to keep records of applications, permits, and certificates, as well as all official business of the Bureau generally. This section requires the Director to keep records pertaining to permitted facilities in perpetuity but allows the Director to destroy records pertaining to shutdown facilities after seven years and other records after seven years unless federal requirements provide for a shorter retention period. EPA notes that Tennessee has record retention statutes, regulations, and policies at the state level that require certain records to be kept on a permanent basis, such as agency rule adoption files. See Tenn. Code Ann. § 4-5-222, Tennessee Records Disposition Authorization SW 40. The Chattanooga rule also requires that records be open for inspection, with some limitations for certain confidential documents. EPA has reviewed Paragraph 4-10(a) and preliminarily finds the provision to be consistent with the CAA.

The current SIP-approved version of Paragraph 4-10(a) also governed records retention policies by the Bureau. Chattanooga requested that EPA approve the version of the rule submitted in the September 12, 2018, SIP revision in its entirety to ensure the federally-approved version and the local version are consistent. EPA does not anticipate that removal of the current SIP-approved version of Paragraph 4-10(a) and replacement with the version locally effective on October 3, 2017, will lead to a change in emissions. EPA is therefore proposing to conclude that the removal and replacement will not interfere with the attainment or maintenance of air quality standards.

EPA has reviewed the changes to the SIP and is proposing to approve the version of section 4-10(a) locally effective on October 3, 2017, into the SIP.

F. Section 4-17, “Enforcement of chapter; procedure for adjudicatory hearings for violations”

Tennessee's September 12, 2018, SIP revision includes a request to remove and replace Section 4-17, “Enforcement of chapter; procedure for adjudicatory hearings for violations” of the Chattanooga-Hamilton County portion of the Tennessee SIP. Chattanooga Rule 4-17 governs the enforcement of Chapter 4 of the Chattanooga City Code and outlines the procedure for adjudicatory hearings for violations.¹³ EPA has reviewed Section 4-17 and preliminarily finds the provision to be consistent with the CAA.

¹³ As discussed above, Paragraph 4-17(d), regarding citation to municipal court, is not included in the regulations from the other jurisdictions this action proposes to approve. See note 8. However, as this addition serves to strengthen the SIP and is not required by the CAA, similar language in the other jurisdictions' regulations is not necessary. Accordingly, EPA is proposing to approve all 11 jurisdictions' regulations identified in footnote 8.

The current SIP-approved version of Section 4-17 also governed the enforcement of Chapter 4 of the Chattanooga City Code and outlines the procedure for adjudicatory hearings for violations. Chattanooga requested that EPA approve the version of the rule submitted in the September 12, 2018, SIP revision in its entirety to ensure the federally-approved version and the local version are consistent. EPA does not anticipate that removal of the current SIP-approved version of section 4-17 and replacement with the version locally effective on October 3, 2017, will lead to increased emissions. EPA is therefore proposing to conclude that the removal and replacement will not interfere with the attainment or maintenance of air quality standards.

EPA has reviewed the changes to the SIP and is proposing to approve the version of section 4-17 locally effective on October 3, 2017, into the SIP.

III. Incorporation by Reference

In this rule, EPA is proposing to include in a final EPA rule regulatory text that includes incorporation by reference. In accordance with requirements of 1 CFR 51.5, EPA is proposing to incorporate by reference the following changes to Chattanooga City Code Chapter 4 of Part II, locally effective on October 3, 2017: Section 4-4, “Penalties for violation of chapter, permit or order;” Section 4-6, “Air pollution control board; bureau of air pollution control; persons required to comply with chapter;” Section 4-7, “Powers and duties of the board; delegation;” Paragraphs 4-8(a)(14), 4-8(c)(12), 4-8(d)(4) and 4-8(d)(6) in Section 4-8, “Installation permit and certificate of operation;” Paragraph 4-10(a), “Records;” and Section 4-17, “Enforcement of chapter; procedure for adjudicatory hearings for violations.” ¹⁴ EPA has made, and will continue to make, these materials generally available through www.regulations.gov and at the EPA Region 4 office (please contact the person identified in the For Further Information Contact section of this preamble for more information).

¹⁴ EPA's approval also includes regulations/ordinances submitted for the other ten jurisdictions within the Bureau. See footnotes 3 through 8, above.

IV. Proposed Action

EPA is proposing to approve the removal and replacement in the entirety of the following rules in the Chattanooga-Hamilton County portion of the Tennessee SIP with the version of the rules submitted on September 12, 2018: Chapter 4, Section 4-4, “Penalties for violation of chapter, permit or order,” Section 4-6, “Air pollution control board; bureau of air pollution control; persons required to comply with chapter,” Section 4-7, “Powers and duties of the board; delegation,” Paragraphs 4-8(a)(14), 4-8(c)(12), 4-8(d)(4) and 4-8(d)(6) in Section 4-8,¹⁵ “Installation permit and certificate of operation,” Paragraph 4-10(a), “Records,” and Section 4-17, “Enforcement of chapter; procedure for adjudicatory hearings for violations.”

¹⁵ See footnote 12 regarding the paragraphs that EPA is proposing to remove.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This proposed action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations.

Authority: 42 U.S.C. 7401 et seq.

Dated: January 31, 2020.
Mary S. Walker,
Regional Administrator, Region 4.

[FR Doc. 2020-02504 Filed 2-7-20; 8:45 am]

BILLING CODE 6560-50-P